DEPARTMENT OF COMMERCE

National Oceanic and Atmospheric Administration

50 CFR Part 622

[I.D. 032101E]

South Atlantic Fishery Management Council; Public Meetings

AGENCY: National Marine Fisheries Service (NMFS), National Oceanic and Atmospheric Administration, Commerce.

ACTION: Notification of public scoping meetings.

SUMMARY: The South Atlantic Fishery Management Council (Council) will hold four scoping meetings in April and May 2001, to gather public input on measures for possible inclusion in an amendment to the Shrimp Fishery Management Plan (FMP) for the Region. The measures are being considered at the request of the commercial shrimp industry. These management measures will address the issue of larger vessels entering the fishery that are capable of fishing 24 hours a day and having far greater fishing power than the traditional fleet. Fishermen are concerned over the possible displacement of traditional shrimp vessels from the fishery, the unknown impact of adding highly efficient vessels into an already overcapitalized fishery, the biological impact of increased effort on shrimp stocks, and the unknown and possible increase in bycatch. Items under consideration include establishing a Federal permit for the shrimp fishery, night-time closures, and maximum trawl size for vessels harvesting or possessing penaeid shrimp from the South Atlantic EEZ.

DATES: The Council will accept written comments on the proposed amendment through May 29, 2001. The meetings will be held in April and May 2001. See SUPPLEMENTARY INFORMATION for specific dates and times of the meetings.

ADDRESSES: Written comments should be sent to Bob Mahood, Executive Director, South Atlantic Fishery Management Council, One Southpark Circle, Suite 306, Charleston, SC 29407-4699, or via email to safmc@noaa.gov. Copies of the scoping document are available from Kim Iverson, South Atlantic Fishery Management Council, One Southpark Circle, Suite 306, Charleston, SC 29407-4699; telephone: 843-571-4366.

FOR FURTHER INFORMATION CONTACT: Kim Iverson, South Atlantic Fishery Management Council, One Southpark Circle, Suite 306, Charleston, SC 29407-4699; telephone: 843-571-4366; fax: 843-769-4520; email: kim.iverson@noaa.gov.

SUPPLEMENTARY INFORMATION:

Meeting Dates and Locations

All meetings are scheduled to begin at 6 p.m.

1. April 17, 2001, Crystal Coastal Civic Center, 3505 Arendell Street, Morehead City, NC 28557; telephone: 252-247-3883.

2. April 19, 2001, Cooperative Extension Building, Brunswick County Center, 25 Referendum Dr., Bolivia, NC 28422; telephone: 910-253-2610.

3. May 15, 2001, Town & Country Inn, 2008 Savannah Highway, Charleston, SC 29407; telephone: 843-571-1000.

4. May 21, 2001, Sea Turtle Inn, 1 Ocean Boulevard, Atlantic Beach, FL 32233; telephone: 904-249-7402.

Special Accommodations

These meetings are physically accessible to people with disabilities. Requests for sign language interpretation or other auxiliary aids should be directed to the Council office (see ADDRESSES) by April 6, 2001.

Dated: March 27, 2001.
Bruce C. Morehead,
Acting Director, Office of Sustainable Fisheries, National Marine Fisheries Service.

[FR Doc. 01-8051 Filed 3-30-01; 8:45 am]

BILLING CODE 3510-22-S